DEPARTMENT OF HEALTH AND HUMAN SERVICES

Administration for Children and Families

[Program Announcement No. CFDA 93.598]

ORR Announcement for Services to Victims of a Severe Form of Trafficking

AGENCY: Office of Refugee Resettlement (ORR), ACF.

ACTION: Request for applications for projects to increase awareness about human trafficking and to support services for individuals determined to be victims of a severe form of trafficking.

SUMMARY: This ORR announcement invites submission of grant applications for funding, on a competitive basis, for Local/Community Outreach and/or Services for Victims of a Severe Form of Trafficking.

DATES: The closing date for receipt of applications is (4:30 p.m. Eastern Time Zone) November 1, 2002. Please note that all applications must be received (as opposed to postmarked) in ACF by this date or they will be considered late. Delays caused by express mailing companies are not the responsibility of ACF and negatively affected applications will be considered late. Mailed and hand-carried applications received after the 4:30 p.m. (Eastern Time Zone) deadline on the closing date will be classified as late.

Announcement Availability: The program announcement and the application materials are available from Jay Womack and Neil Kromash, Office of Refugee Resettlement (ORR), 370 L'Enfant Promenade SW, Washington, DC 20447 and from the ORR Web site at: www.acf.hhs.gov/programs/orr

FOR FURTHER INFORMATION CONTACT: For all categories, contact Jay Womack, (202) 401-5525, jwomack@acf.hhs.gov or Neil Kromash, (202) 401-5702, nkromash@acf.hhs.gov.

SUPPLEMENTARY INFORMATION: This program announcement consists of four parts:

Part I: Background, legislative authority, funding availability, CFDA Number, eligible applicants, project and budget periods, program purpose and objectives, allowable activities, non-allowable activities, and review criteria.

Part II: The Review Process—intergovernmental review, initial ACF screening, and competitive review and evaluation criteria.

Part III: The Application—application forms, application submission and deadlines, certifications, assurances, and disclosure required for non-construction programs, general instructions for preparing a full project description, and length of application.

Part IV: Post-award—applicable regulations, treatment of program income, and reporting requirements.

Paperwork Reduction Act of 1995 (Pub. L. 104-13): Public reporting burden for this collection of information is estimated to average 16 hours per response, including the time for reviewing instructions, gathering and maintaining the data needed, and reviewing the collection of information. The following information collection is included in the program announcement: OMB Approval No. 0970-0139, ACF UNIFORM PROJECT DESCRIPTION (UPD) attached as Appendix A, which expires 12/30/03. An agency may not conduct or sponsor, and a person is not required to respond to, a collection of information unless it displays a currently valid OMB control number.

Part I: Background

Since 1994, ORR has provided assistance for social services to meet the needs of newly arriving refugees through a standing announcement. In May 2001, ORR modified that announcement to include services to victims of a severe form of trafficking. However, in February 2002, ORR further modified Category 3 of the existing standing announcement by removing services to victims of a severe form of trafficking in order to proceed with a new and separate announcement specifically aimed at promoting awareness about human trafficking and addressing the service needs of victims of a severe form of trafficking. That notice of modification was published in the Federal Register on February 8, 2002 (67 FR 6048).

On May 24, 2002, ORR published an announcement in the Federal Register (67 FR 36622) to request applications to provide local/community outreach and/or services to victims of a severe form of trafficking. Due to the positive response from that grant announcement, ORR has decided to provide additional funding in Fiscal Year 2003. Though the May 24, 2002 announcement was for multiple categories of funding, this new announcement is only requesting applications to provide local/community outreach and/or services to victims of a severe form of trafficking.

Legislative Authority

These grants are authorized by three provisions of law: section 107(b)(1)(B) of the Trafficking Victims Protection Act of 2000 (TVPA)(22 U.S.C. 7105(b)(1)(B)); section 412(c)(1)(A) of the Immigration and Nationality Act (INA)(8 U.S.C. 1522(c)(1)(A)), as amended; and section 106(b) of the TVPA.

Section 107(b)(1)(B) of the TVPA, Public Law 106-386, Division A, 114 Stat. 1464 (2000), provides that “Federal agencies shall expand benefits and services to victims of severe forms of trafficking in persons in the United States, without regard to the immigration status of such victims.” Individuals who are determined to be victims of a severe form of trafficking will be issued a certification letter (for adults) or eligibility letter (for minors under the age of 18) from the U.S. Department of Health and Human Services (HHS). In conducting a benefits eligibility determination for a victim of a severe form of trafficking, benefit-granting agencies should accept the HHS certification letter or HHS eligibility letter for minors in lieu of documentation from the Immigration and Naturalization Service and as proof of a status that confers eligibility for benefits.

Section 412(c)(1)(A) of the INA authorizes the Director “to make grants to, and enter into contracts with, public or private nonprofit agencies for projects specifically designed—(i) To assist refugees in obtaining the skills which are necessary for economic self-sufficiency, including projects for job training, employment services, day care, professional refresher training, and other re-certification services; (ii) to provide training in English where necessary (regardless of whether the refugees are employed or receiving cash or other assistance); and (iii) to provide where specific needs have been shown and recognized by the Director, health (including mental health) services, social services, educational and other services.”

Section 106(b) of the TVPA provides: “The President, acting through the Secretary of Labor, the Secretary of Health and Human Services, the Attorney General, and the Secretary of State, shall establish and carry out programs to increase public awareness, particularly among potential victims of trafficking, of the dangers of trafficking and the protections that are available for victims of trafficking.

Funding Availability

In FY 2003, ORR expects to award an estimated $1.25 million in funds to carry out the Trafficking Victims Protection Act of 2000. ORR expects to make approximately three to five grants under this grant announcement—Local/Community Outreach and/or Services for Victims of a Severe Form of Trafficking—ranging from $50,000 to $250,000 for a total of up to $1,250,000; renewable on a yearly basis for up to three years, subject to the availability of funds.

The Director reserves the right to award less or more than the funds described in this announcement. In the absence of worthy applications, the Director may decide not to make an award if deemed in the best interest of the government. The ORR Director reserves the right to award grants after taking into consideration the geographic distribution of services among the major cities and areas throughout the United States where victims are most likely to be found and/or are in need of assistance. Funding availability for future years is at the Director's discretion.

CFDA Number—93.598

Eligible Applicants

Public and private nonprofit organizations, including faith-based organizations and state, local, and tribal governments, are eligible to apply for any of these grants (see section 412(c) of the INA). For profit entities are eligible to apply for local/community outreach grants only (see section 106(b) of the TVPA), although HHS funds may not be paid as profit to any recipient even if the recipient is a commercial organization (45 CFR 74.81). ORR expects that applicants will coordinate with other local organizations in considering projects and proposing services.

Any private nonprofit organization submitting an application must submit proof of its status in its application at the time of submission. The nonprofit agency can accomplish this by providing a copy of the applicant's listing in the Internal Revenue Service's (IRS) most recent list of tax-exempt organizations described in Section 501(c)(3) of the IRS code or by providing a copy of the currently valid IRS tax exemption certificate or by providing a copy of the articles of incorporation bearing the seal of the State in which the corporation or association is domiciled.

Applicants are not required to match or cost share in the application.

Project and Budget Periods

This announcement is inviting applications for project periods of up to three years. Awards, on a competitive basis, will be for a one-year budget period although project periods may be up to three years. Applications for continuation grants funded under these awards, beyond the one-year budget period but within the three-year project period, will be entertained in subsequent years on a noncompetitive basis, subject to availability of funds, satisfactory progress of the grantee and a determination that continued funding would be in the best interest of the Government.

Local/Community Outreach and/or Services for Victims of a Severe Form of Trafficking

Program Purpose and Objectives

The purpose of Local/Community Outreach and/or Services for Victims of a Severe Form of Trafficking is multifaceted. It combines the need to increase local/community awareness about the burgeoning problem of human trafficking with the need to provide resources that will address the needs of individuals determined by HHS to be victims of a severe form of trafficking. Applications may choose to concentrate exclusively on one of these two areas, or focus more comprehensively on a combination of activities that incorporates both.

Local/Community Outreach

The purpose of this area of the announcement is to provide state and local law enforcement, public and private service providers, non-governmental organizations, immigrant and refugee communities, and individual community members with opportunities to learn about the Trafficking Victims Protection Act of 2000 (TVPA). The TVPA has presented an unprecedented opportunity to address the previously hidden problem of human trafficking. However, knowledge of the TVPA is limited among service professionals, law enforcement agencies, and the general public. Knowledge of benefits available to victims is similarly limited, especially among groups that do not normally access benefits or have connections with benefit-providing agencies and organizations.

Educational opportunities need to be extended to these groups to allow them to learn about the existence of human trafficking within the United States and to recognize trafficking, particularly in their local communities. Integral in these outreach activities should be familiarity with the legal definition of “severe forms of trafficking in persons” as described in the TVPA. Subsequently, a clear understanding should be established of the criteria necessary to qualify as a victim of a severe form of trafficking for benefits and services purposes.

Once trafficking victims have been identified, organizations must be empowered to provide victims with additional information and resources to access services available to them. Law enforcement agencies that have contact with immigrant or refugee populations must also be educated to look below the surface of people's circumstances in such areas as prostitution and immigrant labor. Service providers need to learn about the varied backgrounds from where the victims come and, most importantly, the unique issues that trafficking victims will present following their emancipation.

Organizations must establish that within their geographic locality/area there is a reasonable expectation that victims of a severe form of trafficking may be identified. Effective applications will also identify and aim to raise awareness about victim service needs that should be enhanced or increased based on the level of community awareness (or lack thereof) that exists regarding trafficking in a particular geographic locality/area.

ORR is interested in providing resources for organizations to cover the costs of reaching out to community-based organizations so that victims are identified where they have the best chance for receiving assistance. In turn, communities where outreach and educational opportunities are being extended may experience an increase in the numbers of victims being identified and requesting services.

Services to Victims of a Severe Form of Trafficking

Through Services to Victims of a Severe Form of Trafficking, ORR seeks to provide resources that will address the needs of individuals determined to be victims of a severe form of trafficking. Victims must be the recipients of a certification or eligibility letter from HHS in order to gain access to this assistance. We believe that enhanced case management, education, and culturally and linguistically appropriate linkages and coordination with other service providers contribute to the overall well-being of trafficking victims. Victims may also require initial assistance accessing refugee and/or mainstream services for which they are eligible. The services funded should enhance the likelihood that victims of a severe form of trafficking receive needed support as they work with the criminal justice system to assist in the investigation and prosecution of trafficking crimes.

An applicant should provide anecdotal evidence that there have been victims of a severe form of trafficking within their community and/or a reasonable assumption that there may be additional unidentified victims in that community.

This grant program is intended to support services that address the special conditions of victims of a severe form of trafficking. ORR's expectation is that victims of trafficking will most likely, after a brief period of time, access mainstream services. Therefore, grantees should view these resources as a temporary solution.

According to post award requirements, grantees are expected to file periodic program reports. In the last two Program Performance Reports, grantees will discuss the transition of services indicating whether the services are now supported by the State, other public or private resources, or are no longer needed. These reports must also provide supporting information on the impact of the services provided to the target population.

Allowable Activities

Local/Community Outreach

Allowable activities for local/community outreach include hosting community forums (including coordination and facilitation of outreach events) to raise general awareness about the problem of trafficking in their local community. In addition, applicants should emphasize the development of advertising and marketing anti-trafficking materials that reflect the broad scope of the various forms of trafficking (including debt bondage, peonage, forced labor and forced prostitution) and that are linguistically and culturally accessible, appropriate, and sensitive.

Applications focusing on Local/Community Outreach should indicate approximate timelines for development, dissemination, and review of actions presented to measure the effectiveness of the communication.

Services to Victims of a Severe Form of Trafficking

Allowable activities for Services to Victims of a Severe Form of Trafficking are restricted solely to individuals who are the recipients of a certification (for adults) or eligibility letter (for minors) from HHS. Some of the services needed for victims of a severe form of trafficking might include:

• Special medical care that is not otherwise available to the individual;

• Assistance with temporary transportation needs;

• Temporary housing;

• Temporary housing for young adults with limited experience living in families;

• Independent living skills and cultural orientation;

• Access to appropriate educational programs;

• Legal assistance/referrals and administrative costs (excluding T-visa application fees and/or attorney fees).

• Case management, to include information and referral to needed services in the community, either funded refugee services or mainstream services as appropriate;

• Special mental health services, such as trauma counseling, and

• Other services needed to bridge the time between the certification or eligibility date indicated directly on the Department's letter, and the receipt of public benefits and support services.

Applicants focusing on Services to Victims of a Severe Form of Trafficking should indicate how they will ensure that services are appropriate and accessible both linguistically and culturally.

Non-Allowable Activities

Funds will not be awarded to applicants for the purpose of engaging in activities of a distinctly political nature, activities designed exclusively to promote the preservation of a specific cultural heritage, or activities with an international objective (i.e., activities related to events in the refugees' country of origin). No funds will be used to provide direct services or benefits to trafficking victims who have not been certified by HHS and are therefore not yet eligible to receive direct benefits and/or services. HHS Trafficking funds may not be used by any agency or organization to support activities relating to or supporting the legalization of prostitution.

Review Criteria

1. Objectives and Need—Local/Community Outreach—The applicant demonstrates a clear understanding of the population to be served. The conditions in proposed communities are clearly described, including the reasonable expectation of identifying trafficking victims within the community. The need for additional information leading to enhanced acknowledgment of trafficking is documented. The applicant provides anecdotal evidence that there are enough people and/or organizations that would benefit from this type of outreach/educational opportunity. Services for Victims of a Severe Form of Trafficking—The applicant demonstrates a clear understanding of the population to be served. The number of projected victims of trafficking to be served is reasonable in light of the organization's capacity. The application proposes to address a program of services for victims of trafficking. (25 points)

2. Results or Benefits Expected—The applicant clearly describes the results and benefits to be achieved. The application clearly describes how the specific target population will benefit from proposed services, e.g., enhanced case management, special medical care, referrals and follow-up with culturally and linguistically appropriate mainstream providers. Results or benefits are described also in terms of the opportunities provided for victims, benefit-providing agencies, and law enforcement. The application describes how the impact of the funds will be measured on key indicators associated with the purpose of the project. Proposed outcomes are measurable and achievable within the grant project period, and the proposed monitoring and information collection is adequately planned. (25 points)

3. Approach—The strategy and plan, including a description of each proposed geographic area/community and an assessment of appropriateness of activities, are likely to achieve proposed results. The proposed activities and timeframes are reasonable and feasible. The plan describes in detail how the proposed activities will be accomplished as well as the potential for the project to generate additional interest in outreach to victim populations and coordination with other services. The application includes a clear and comprehensive description of the geographic area/communities to be served and how it/they will be impacted by this project. Assurance is provided that proposed services will be delivered in a manner that is linguistically and culturally appropriate to the target population. The applicant has described the planning and/or consultation efforts undertaken. Where coalition partners are proposed, the applicant describes each partner agency's respective role and financial responsibilities and describes how the coalition will enhance the accomplishment of the project goals. Evidence of commitment of coalition partners in implementing the activities is demonstrated, i.e., by Memoranda of Understanding (MOUs) among participants. Assurance is provided that proposed services will be delivered in a manner that is linguistically and culturally appropriate to the target population. (25 points)

4. Organizational Profiles—The administrative and management features of the project, including a plan for fiscal and programmatic management of each activity and planning activities, are described in detail with proposed start-up times, ongoing timelines, major milestones or benchmarks, a component/project organization chart, management of affiliates, and a staffing chart of affiliate network. The qualifications of project staff, both applicant and affiliate agencies, as well as any volunteers, are documented. The applicant has provided a copy of its most recent audit report. (10 points)

5. Budget and Budget Justification—The budget and narrative justification are reasonable, clearly presented, and cost-effective in relation to the proposed activities and anticipated results. The applicant clearly indicates how awarded funds will complement other community outreach efforts and/or social services to achieve the objectives. Planning for continuation of services beyond the project period is realistic. (15 points)

Part II: The Review Process

Intergovernmental Review

This program is covered under Executive Order 12372, “Intergovernmental Review of Federal Programs,” and 45 CFR Part 100, “Intergovernmental Review of Department of Health and Human Services Programs and Activities.” Under the Order, States may design their own processes for reviewing and commenting on proposed federal assistance under covered programs.

• All States and Territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, and Palau have elected to participate in the Executive Order process. Applicants from these twenty-seven jurisdictions need take no action regarding E.O. 12372. Applicants for projects to be administered by Federally-recognized Indian Tribes are also exempt from the requirements of E.O. 12372. Applicants should contact their Single-Points-of-Contact (SPOC) as soon as possible to alert them of the prospective applications and receive any necessary instructions. Applicants from participating jurisdictions must submit any required material to the SPOCs as soon as possible so that the program office can obtain and review SPOC comments as part of the award process. The applicant must submit all required materials, if any, to the SPOC and indicate the date of this submittal (the date of contact) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to ACF, they should be addressed to: Grants Management Officer, U.S. Department of Health and Human Services, Administration for Children and Families, Office of Refugee Resettlement, 370 L'Enfant Promenade SW., 4th floor, Washington DC 20447.

A list of the Single Points of Contact for each participating State and Territory can be found on the Web at: http://www.whitehouse.gov/omb/index.html.

Initial ACF Screening

Each application submitted under this program announcement will undergo a pre-review to determine that (1) the application was received by the closing date of November 1, 2002, and submitted in accordance with the instructions in this announcement; and (2) the applicant is eligible for funding.

Competitive Review and Evaluation Criteria

Applications which pass the initial ACF screening will be evaluated and rated by an independent review panel on the basis of evaluation criteria specified in Part I. The evaluation criteria were designed to assess the quality of a proposed project and to determine the likelihood of its success. The evaluation criteria are closely related and are considered as a whole in judging the overall quality of an application. Points are awarded only to applications that are responsive to the evaluation criteria within the context of this program announcement.

Part III: The Application

In order to be considered for a grant under this program announcement, an application must be submitted on the forms supplied and in the manner prescribed by ACF. Selected elements of the ACF Uniform Project Description (UPD) relevant to this program announcement are attached as Appendix A.

Application Forms

Applicants requesting financial assistance under this announcement must file the Standard Form (SF) 424, Application for Federal Assistance; SF 424A, Budget Information—Non-construction Programs; SF 424B, Assurances—Non-Construction Programs. The forms may be reproduced for use in submitting applications. Application materials including forms and instructions are also available from the Contact named in the preamble of this announcement.

Application Submission and Deadlines

An application with an original signature and two clearly identified copies are required. Applicants must clearly indicate on the SF 424 the grant announcement number under which the application is submitted.

The closing date for receipt of applications is (4:30 p.m. Eastern Time Zone) November 1, 2002. Please note that all applications must be received (as opposed to postmarked) in ACF by this date or they will be considered late. Delays caused by express mailing companies are not the responsibility of ACF and negatively affected applications will be considered late. Mailed and hand-carried applications received after the 4:30 p.m. (Eastern Time Zone) deadline on the closing date will be classified as late.

Mailed applications shall be considered as meeting an announced deadline if they are either received on or before the deadline time and date at the: U.S. Department of Health and Human Services, Administration for Children and Families, Office of Grants Management, Division of Discretionary Grants, Attention: Grants Management Officer, 370 L'Enfant Promenade SW., 4th Floor, Washington, DC 20447. Applicants are responsible for mailing applications well in advance to ensure that applications are received on or before the deadline time and date.

Applications hand-carried by applicants, applicant couriers, overnight/express mail couriers, or by other representatives on behalf of the applicant shall be considered as meeting an announced deadline if they are received on or before the deadline date, between the hours of 8 a.m. and 4:30 p.m., EST, at the U.S. Department of Health and Human Services, Administration for Children and Families, Office of Grants Management, Division of Discretionary Grants, Attention: Grants Management Officer, 4th Floor, Aerospace Building, 901 D Street, SW., Washington, DC 20447 between Monday and Friday (excluding federal holidays). The address must appear on the envelope/package containing the application with the note “Attention: Grants Management Officer.” (Applicants are cautioned that express/overnight mail services do not always deliver as agreed. Delays caused by express mailing companies are not the responsibility of ACF and negatively affected applications will be considered late.)

ACF cannot accommodate transmission of applications by fax or through other electronic media. Therefore, applications transmitted to ACF electronically will not be accepted regardless of date or time of submission and time of receipt.

The federal government has experienced periodic delays in mail delivery through the U.S. Postal Service since fall 2001. In some instances, mail has been delayed up to or over four months. To ensure that ACF receives your application by the (4:30 p.m. Eastern Time Zone) November 1, 2002 deadline, you may wish to send your application via an express mailing service. Also, please send an electronic notification that you have sent an application to Jay Womack at jwomack@acf.hhs.gov and Neil Kromash at nkromash@acf.hhs.gov.

Late applications: Applications that do not meet the criteria above are considered late applications. ACF shall notify each late applicant that its application will not be considered in the current competition.

Extension of deadlines: ACF may extend application deadlines when circumstances such as acts of God (e.g. floods, hurricanes, etc.) occur, or when there are widespread disruptions of mail service. Determinations to extend or waive deadline requirements rest with the Chief Grants Management Officer.

For Further Information on Application Deadlines Contact: Grants Management Officer, Administration for Children and Families, Office of Grants Management, Division of Discretionary Grants, 370 L'Enfant Promenade SW., 4th Floor, Washington, DC 20447, Telephone: (202) 401-4577.

Certifications, Assurances, and Disclosure Required for Non-Construction Programs

Applicants must sign and return the disclosure form, if applicable, with their applications. Applicants requesting financial assistance for non-construction projects must file the Standard Form 424B, “Assurances: Non-Construction Programs.” Applicants must sign and return the Standard Form 424B with their applications.

Applicants must provide a signed certification regarding lobbying with their applications, when applying for an award in excess of $100,000. Applicants who have used non-federal funds for lobbying activities in connection with receiving assistance under this announcement shall complete a disclosure form to report lobbying.

Applicants must make the appropriate certification of their compliance with the Drug Free Workplace Act of 1988. By signing and submitting the application, the applicant is providing the certification and need not mail back the certification with the application.

Applicants must make the appropriate certification that they are not presently debarred, suspended or otherwise ineligible for an award. By signing and submitting the application, the applicant is providing the certification and need not mail back the certification with the applications.

General Instructions for Preparing a Full Project Description

The project description provides a major means by which an application is evaluated and ranked to compete with other applications for available assistance. The project description should be concise and complete and should address the activity for which federal funds are being requested. Supporting documents should be included where they can present information clearly and succinctly. Applicants are encouraged to provide information on their organizational structure, staff, related experience, and other information considered relevant. Awarding offices use this and other information to determine whether the applicant has the capability and resources necessary to carry out the proposed project. It is important, therefore, that this information be included in the application. However, in the narrative the applicant must distinguish between resources directly related to the proposed project from those that will not be used in support of the specific project for which funds are requested. Please refer to the UPD sections in the appendix.

Length of Applications

Each application narrative should not exceed 20 pages in a 12-pitch font. Attachments and appendices should not exceed 25 pages and should be used only to provide supporting documentation such as administration charts, position descriptions, resumes, and letters of intent or partnership agreements. A table of contents and an executive summary should be included but will not count in the page limitations. Each page should be numbered sequentially, including the attachments and appendices. This limitation of 20 pages should be considered as a maximum, and not necessarily a goal. Application forms are not to be counted in the page limit.

Please do not include books or videotapes as they are not easily reproduced and are, therefore, inaccessible to the reviewers.

Part IV: Post-Award

Applicable Regulations

Applicable DHHS regulations can be found in 45 CFR Part 74 or 92.

Treatment of Program Income

Program income from activities funded under this program may be retained by the recipient and added to the funds committed to the project, and used to further program objectives.

Reporting Requirements

Grantees are required to file the Financial Status Report (SF-269) semi-annually and the Program Performance Reports quarterly, along with the Schedule C of the ORR Quarterly Performance Report.

Funds awarded must be accounted for, and reported under, the distinct grant number ascribed. Although ORR does not expect the proposed projects to include evaluation activities, it does expect grantees to maintain adequate records to track and report on project outcomes and expenditures. The official receipt point for all reports and correspondence is the Grants Management Officer, Administration for Children and Families/Office of Grants Management, Division of Discretionary Grants, 370 L'Enfant Promenade SW., 4th Floor, Washington, DC 20447, Telephone: (202) 401-4577. An original and one copy of each report shall be submitted within 30 days of the end of each reporting period directly to the Office of Grants Management.

A Final Financial and Program Report shall be due 90 days after the project expiration date or termination of federal budget support.

Dated: August 29, 2002.
Carmel Clay-Thompson,
Deputy Director, Office of Refugee Resettlement.

Appendix A—Uniform Project Description OMB No. 0970-0139

The project description is approved under OMB control number 0970-0139 which expires 12/31/03.

Part I: The Project Description Overview

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

Part II: General Instructions for Preparing a Full Project Description

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information that supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 U.S.C. 403(11) currently set at $100,000. Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application that contain this information.

Nonfederal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs

[Self-explanatory]

[FR Doc. 02-24238 Filed 9-23-02; 8:45 am]

BILLING CODE 4184-01-P